DEPARTMENT OF EDUCATION

[CFDA No.: 84.206A]

Office of Elementary and Secondary Education; Jacob K. Javits Gifted and Talented Students Education Program

ACTION: Notice of clarification, correction, and limited purpose closing date extension for the Jacob K. Javits Gifted and Talented Students Education Program fiscal year (FY) 2002 competition.

SUMMARY: The Assistant Secretary publishes this clarification and correction notice to reconcile differences between the Federal Register notice announcing this year's Jacob K. Javits Gifted and Talented Students Education Program competition and the Department's application package for this program. This notice also extends the closing date for the limited purpose of allowing program applicants that transmitted their applications by July 9, 2002, to supplement or revise their applications in light of these differences.

SUPPLEMENTARY INFORMATION: On May 24, 2002, the Assistant Secretary published a notice in the Federal Register (67 FR 36583 through 36586) inviting applications for new awards for the Jacob K. Javits Gifted and Talented Students Education Program. The notice stated that the application package would be available to eligible entities on May 24, 2002. Some of the information contained in the application package provided to applicants was different from the May 24, 2002 Federal Register notice. Although the notice was correct, because these differences may have caused confusion among this year's applicants, the Assistant Secretary hereby provides the following clarifications regarding length of project periods, award amounts, and application length:

—Priority 1: The Assistant Secretary will consider for funding applications proposing projects of up to 5 years (60 months) and annual budgets within an estimated range of between $400,000 and $600,000;

—Priority 2: The Assistant Secretary will consider for funding applications proposing projects of up to 3 years (36 months) and annual budgets within an estimated range of between $200,000 and $300,000; and

—There are no page restrictions applicable to this competition. Thus, the Assistant Secretary will consider for funding applications that are 25 pages long, as well as those that are shorter or longer than 25 pages.

In addition, due to the incorrect closing date provided in the application package, the Assistant Secretary will accept applications that were transmitted on July 9, 2002. Also, because applicants may have been confused by some of the information provided in the application package, the Assistant Secretary will allow applicants that transmitted timely applications by July 9, 2002, to supplement or revise their applications. The Assistant Secretary hereby extends the closing date in this competition for this limited purpose to July 23, 2002. The Department must receive all supplements or revisions by this date. Due to recent disruptions to mail delivery and to ensure timely receipt by the Department, applicants submitting supplements or revisions in response to this notice are strongly encouraged to utilize a commercial delivery method such as Federal Express or United Parcel Service, or a courier service. Applicants using a commercial carrier are directed to follow the appropriate mailing and hand delivery instructions contained in their application package for this competition.

The Assistant Secretary is not requiring applicants to supplement or revise their applications. If an applicant chooses not to supplement or revise its application and its application was transmitted by July 9, 2002, the Department will consider and review its initial application.

FOR FURTHER INFORMATION CONTACT: Emily McAdams, U.S. Department of Education, Room 5W252, 400 Maryland Avenue, SW., Washington, DC 20202. Telephone: (202) 260-8753 or the following e-mail or Internet address: emily.mcadams@ed.gov. If you use a telecommunications device for the deaf (TDD), you may call the Federal Information Relay service (FIRS) at 1-800-877-8339.

Individuals with disabilities may obtain this document in an alternative format (e.g., Braille, large print, audiotape, or computer diskette) on request to the contact person listed.

Electronic Access to This Document

You may view this document, as well as all other Department of Education documents published in the Federal Register, in text or Adobe Portable Document Format (PDF) on the Internet at the following site: http://www.ed.gov/legislation/FedRegister.

To use PDF you must have the Adobe Acrobat Reader, which is available free at this site. If you have questions about using PDF, call the U.S. Government Printing Office (GPO) toll free, at 1-888-293-6498; or in the Washington, DC area at (202) 512-1530.

Note: The official version of this document is the document published in the Federal Register. Free Internet access to the official edition of the Federal Register and the Code of Federal Regulations is available on GPO Access at: http://www.access.gpo.gov/nara/index/html.

Program Authority: 20 U.S.C. 7253 et seq.

Dated: July 12, 2002.
Susan B. Neuman,
Assistant Secretary for Elementary and Secondary Education.

[FR Doc. 02-18032 Filed 7-15-02; 8:45 am]

BILLING CODE 4000-01-P